DEPARTMENT OF COMMERCE

International Trade Administration

Notice of Scope Rulings

AGENCY: Enforcement and Compliance, International Trade Administration, Department of Commerce.

DATES: Effective Date: March 17, 2016.

SUMMARY: The Department of Commerce (“Department”) hereby publishes a list of scope rulings and anticircumvention determinations made between July 1, 2015, and September 30, 2015, inclusive. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on September 23, 2015.² This current notice covers all scope rulings and anticircumvention determinations made by Enforcement and Compliance between July 1, 2015, and September 30, 2015, inclusive. Subsequent lists will follow after the close of each calendar quarter.

¹ See 19 CFR 351.225(o).

² See Notice of Scope Rulings, 80 FR 57339 (September 23, 2015).

Scope Rulings Made Between July 1, 2015 and September 31, 2015

Mexico

A-201-805: Circular Welded Non-Alloy Steel Pipe From Mexico

Requestor: Maquilacero, S.A. de C.V. (Maquilacero); Maquilacero's black pipe manufactured to the ASTM A-513 specification is within the scope of the order, as it does not meet the exclusion for mechanical tubing set forth in the Order; July 27, 2015.

A-201-805: Circular Welded Non-Alloy Steel Pipe From Mexico

Requestor: Perfiles y Herrajes LM, S.A. de C.V. (Perfiles); Perfiles' black pipe manufactured to the ASTM A-513 specification meets the exclusion for mechanical tubing set forth in the Order and is, therefore, outside the scope of the order; August 19, 2015.

Japan

A-588-845: Stainless Steel Sheet and Strip in Coils From Japan

Requestor: American BOA, Inc. (ABI); ABI's precision strip products are within the scope of the order because they possess all of the essential physical characteristics of subject stainless steel sheet and strip in coils; July 22, 2015.

People's Republic of China

A-570-967 and C-570-968: Aluminum Extrusions From the People's Republic of China

Requestor: Agilent Technologies, Inc. (Agilent); Agilent's Foreline Hose Assembly is excluded from the scope because (a) when assembled, it represents finished merchandise fully and permanently completed and assembled containing aluminum extrusions as well as non-extruded aluminum components; and (b) when unassembled, it is a finished goods kit, imported as a combination of all necessary parts to assemble a finished good, and requires no further finishing or fabrication after importation; August 27, 2015.

A-570-967 and C-570-968: Aluminum Extrusions From the People's Republic of China

Requestor: Ruubermaid Commercial Products LLC (Rubbermaid); Rubbermaid's 13 product models, which fall into three categories of floor cleaning products: Quick-Connect frames, Quick-Connect handles, and mopping kits, are excluded from the AD and CVD scope pursuant to the CIT's remand order in Rubbermaid Commercial Products LLC v. United States, Court No. 11-00463, Slip Op. 14-113 (CIT September 23, 2014) (Rubbermaid I). Specifically, on remand, the Department found that Rubbermaid's quick-connect frames and quick-connect handles meet the description of excluded finished merchandise, and that its mopping kits meet the description of excluded finished goods kits; see Aluminum Extrusions From the People's Republic of China: Notice of Court Decision Not in Harmony With Final Scope Ruling and Notice of Amended Final Scope Ruling Pursuant to Court Decision, 80 FR 51535; August 25, 2015.

A-570-967 and C-570-968: Aluminum Extrusions From the People's Republic of China

Requestor: Ace Hardware, Inc.; Ace's telescoping extension poles are outside the scope of the order because they are finished merchandise fully and permanently completed and assembled containing aluminum extrusions as well as non-extruded aluminum components; September 3, 2015.

A-570-967 and C-570-968: Aluminum Extrusions From the People's Republic of China

Requestor: Blue Blade, Inc. (Blue Blade); Blue Blade's extension tension poles are outside the scope of the order because they are finished merchandise fully and permanently completed and assembled containing aluminum extrusions as well as non-extruded aluminum components; September 30, 2015.

A-570-983 and C-570-984: Drawn Stainless Steel Sinks From the People's Republic of China

Requestor: Component Hardware Group Inc.; Industrial Handwashing Sinks are within the scope of the order because they possess all the physical characteristics of subject drawn stainless steel sinks; July 2, 2015.

A-570-909: Certain Steel Nails From the People's Republic of China

Requestor: Lumber Liquidators Services, LLC; Lumber Liquidators' L-Cleat Brads were within the scope of the order based on 19 CFR 351.225(k)(2); July 23, 2015.

A-570-970: Multilayered Wood Flooring From the People's Republic of China

Requestor: Zhejiang Dadongwo GreenHome Wood Co., Ltd.; GreenHome's two-layer wood flooring is not within the scope because it lacks two or more layers of plies of wood veneer(s) in combination with a core; August 6, 2015.

A-570-832: Pure Magnesium From the People's Republic of China

Requestor: Dead Sea Magnesium Ltd. (“DSM”); DSM's patented magnesium alloys are subject to the order on Pure Magnesium from the People's Republic of China because they contain 50 percent or greater, but less than 99.8 percent primary magnesium, by weight, and do not conform to ASTM specifications for alloy magnesium. DSM's magnesium alloys are not subject to the order on Magnesium Metal from the People's Republic of China; July 16, 2015.

Republic of Korea

A-580-834 and A-580-835: Stainless Steel Sheet and Strip in Coils From Republic of Korea

Requestor: American BOA, Inc. (ABI); ABI's precision strip products are within the scope of the order because they possess all of the essential physical characteristics of subject stainless steel sheet and strip in coils; July 22, 2015.

Taiwan

A-583-831: Stainless Steel Sheet and Strip in Coils From Taiwan

Requestor: American BOA, Inc. (ABI); ABI's precision strip products are within the scope of the order because they possess all of the essential physical characteristics of subject stainless steel sheet and strip in coils; July 22, 2015.

Anticircumvention Determinations Made Between July 1, 2015, and September 30, 2015

United Arab Emirates

A-520-803: Polyethylene Terephthalate Film, Sheet, and Strip From the United Arab Emirates

Requestor: Polyplex USA LLC and Flex USA Inc.; PET film produced in Bahrain by JBF Bahrain from inputs (PET chips and silica chips) manufactured in the United Arab Emirates, and that is subsequently exported from Bahrain to the United States undergoes a process of completion or assembly that is not minor or insignificant and, therefore, should not be included within the scope of the order.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: March 11, 2016.
Christian Marsh,
Deputy Assistant Secretary for Antidumping and Countervailing Duty Operations.

[FR Doc. 2016-06042 Filed 3-16-16; 8:45 am]

BILLING CODE 3510-DS-P